DEPARTMENT OF HOUSING AND URBAN DEVELOPMENT

[Docket No. FR-5125-N-47]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, Department of Housing and Urban Development, 451 Seventh Street, SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to John Hicks, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: ARMY: Ms. Veronica Rines, Department of the Army, Office of the Assistant Chief of Staff for Installation Management, Attn: DAIM-ZS, Rm 8536, 2511 Jefferson Davis Hwy., Arlington, VA 22202; (703) 601-2545; ENERGY: Mr. John Watson, Department of Energy, Office of Engineering & Construction Management, ME-90, 1000 Independence Ave, SW., Washington, DC 20585; (202) 586-0072; GSA: Mr. John E.B. Smith, Deputy Assistant Commissioner, General Services Administration, Office of Property Disposal, 18th and F Streets, NW., Washington, DC 20405; (202) 501-0084; NAVY: Mr. Warren Meekins, Associate Director, Department of the Navy, Real Estate Services, Naval Facilities Engineering Command, Washington Navy Yard, 1322 Patterson Ave., SE., Suite 1000, Washington, DC 20374-5065; (202) 685-9305; (these are not toll-free numbers).

Dated: November 15, 2007.
Mark R. Johnston,
Deputy Assistant Secretary for Special Needs.

Title V, Federal Surplus Property Program Federal Register Report for 11/23/2007

Suitable/Available Properties

Building

Mississippi

Federal Building

200 East Washington St.

Greenwood MS 38930.

Landholding Agency: GSA

Property Number: 54200740006

Status: Underutilized

GSA Number: 4-G-MS-0562.

Comments: 11134 sq. ft., presence of asbestos, reserve a 24-month period to relocate Federal tenants

New Jersey

Camp Petricktown Sup. Facility

US Route 130

Pedricktown NJ 08067

Landholding Agency: GSA

Property Number: 54200740005

Status: Excess

GSA Number: 1-I-MA-910

Comments: 21 bldgs., need rehab, most recent use—barracks/mess hall/garages/quarters/admin., may be issues w/right of entry, utilities privately controlled, contaminants

Suitable/Available Properties

Land

Arizona

Parking Lot

322 n 2nd Ave.

Phoenix AZ 85003

Landholding Agency: GSA

Property Number: 54200740007

Status: Surplus

GSA Number: AZ-6293-1

Comments: approx. 21,000 sq. ft., parcel in OU3 study area for clean-up

Unsuitable Properties

Building

Alabama

Bldg. 00049

Anniston Army Depot

Calhoun AL 36201

Landholding Agency: Army

Property Number: 21200740107

Status: Unutilized

Reasons:

Within 2000 ft. of flammable or explosive material

Secured Area

Unsuitable Properties

Building

Alabama

4 Bldgs.

Redstone Arsenal 01414, 3686, 07532, 07737

Madison AL 35898

Landholding Agency: Army

Property Number: 21200740108

Status: Unutilized

Reasons:

Secured Area

Extensive deterioration

Alaska

Bldg. 02A60

Noatak Armory

Kotzebue AK

Landholding Agency: Army

Property Number: 21200740105

Status: Excess

Reasons:

Within 2000 ft. of flammable or explosive material

Bldg. 01212

Ft. Greely

Ft. Greely AK 99731

Landholding Agency: Army

Property Number: 21200740106

Status: Unutilized

Reasons:

Extensive deterioration

Within 2000 ft. of flammable or explosive material

Secured Area

Unsuitable Properties

Building

Alaska

Admin. Site

624 Mill St.

Ketchikan Co: Gateway AK 99901

Landholding Agency: GSA

Property Number: 54200740004

Status: Excess

GSA Number: 9-I-AK-814

Reasons:

Within 2000 ft. of flammable or explosive material

Arizona

Bldg. 00002

Camp Navajo

Bellemont AZ 86015

Landholding Agency: Army

Property Number: 21200740109

Status: Unutilized

Reasons:

Secured Area

Bldgs. 00203, 00216, 00218

Camp Navajo

Bellemont AZ 86015

Landholding Agency: Army

Property Number: 21200740110

Status: Unutilized

Reasons:

Extensive deterioration

Secured Area

Unsuitable Properties

Building

Arizona

Bldgs. 00244, 00252, 00253

Camp Navajo

Bellemont AZ

Landholding Agency: Army

Property Number: 21200740111

Status: Unutilized

Reasons:

Secured Area

Extensive deterioration

7 Bldgs.

Camp Navajo

Bellemont AZ 86015

Landholding Agency: Army

Property Number: 21200740112

Status: Unutilized

Directions:

00302, 00303, 00304, 00311, S0312, S0313, S0319

Reasons:

Extensive deterioration

Secured Area

4 Bldgs.

Camp Navajo

Bellemont AZ 86015

Landholding Agency: Army

Property Number: 21200740113

Status: Unutilized

Directions:

S0320, 00323, S0324, 00329

Reasons:

Secured Area

Unsuitable Properties

Building

Arizona

7 Bldgs.

Camp Navajo

Bellemont AZ 86015

Landholding Agency: Army

Property Number: 21200740114

Status: Unutilized

Directions:

00330, 00331, 00332, 00335, 00336, 00338, S0340

Reasons:

Secured Area

California

Bldg. 0139A

Fort Hunter Liggett

Monterey CA 93928

Landholding Agency: Army

Property Number: 21200740115

Status: Unutilized

Reasons:

Extensive deterioration

4 Bldgs.

Fort Hunter Liggett

00713, 00714, 00715, 00716

Monterey CA 93928

Landholding Agency: Army

Property Number: 21200740116

Status: Unutilized

Reasons:

Extensive deterioration

Unsuitable Properties

Building

California

Bldgs. 445, 534

Lawrence Livermore Natl Lab

Livermore CA

Landholding Agency: Energy

Property Number: 41200740001

Status: Excess

Reasons:

Secured Area

Within 2000 ft. of flammable or explosive material

4 Bldgs.

Lawrence Livermore Natl Lab

802A, 811, 830, 854A

Livermore CA

Landholding Agency: Energy

Property Number: 41200740002

Status: Excess

Reasons:

Within 2000 ft. of flammable or explosive material

Secured Area

Bldgs. 8806, 8710, 8711

Lawrence Livermore Natl Lab

Livermore CA

Landholding Agency: Energy

Property Number: 41200740003

Status: Excess

Reasons:

Secured Area

Within 2000 ft. of flammable or explosive material

Unsuitable Properties

Building

Georgia

Bldg. 00930

Hunter Army Airfield

Savannah GA 31409

Landholding Agency: Army

Property Number: 21200740117

Status: Excess

Reasons:

Extensive deterioration

Bldgs. 01241, 01246

Hunter Army Airfield

Savannah GA 31409

Landholding Agency: Army

Property Number: 21200740118

Status: Excess

Reasons:

Extensive deterioration

Bldg. 06052

Hunter Army Airfield

Savannah GA 31409

Landholding Agency: Army

Property Number: 21200740119

Status: Excess

Reasons:

Extensive deterioration

Bldgs. 2619, 2966, 3251

Fort Benning

Ft. Benning GA 31905

Landholding Agency: Army

Property Number: 21200740120

Status: Unutilized

Reasons:

Extensive deterioration

Unsuitable Properties

Building

Georgia

Bldgs 8603, 8629, 8681

Fort Benning

Ft. Benning GA 31905

Landholding Agency: Army

Property Number: 21200740121

Status: Unutilized

Reasons:

Extensive deterioration

Bldg. 9128

Fort Benning

Ft. Benning GA 31905

Landholding Agency: Army

Property Number: 21200740122

Status: Unutilized

Reasons:

Extensive deterioration

Bldgs. 00957, 01001

Fort Stewart

Hinesville GA 31314

Landholding Agency: Army

Property Number: 21200740123

Status: Excess

Reasons:

Extensive deterioration

Bldgs. 01013, 01014, 01016

Fort Stewart

Hinesville GA 31314

Landholding Agency: Army

Property Number: 21200740124

Status: Excess

Reasons:

Extensive deterioration

Unsuitable Properties

Building

Georgia

Bldgs. 01080, 07337, 15016

Fort Stewart

Hinesville GA 31314

Landholding Agency: Army

Property Number: 21200740125

Status: Excess

Reasons:

Extensive deterioration

Idaho

Bldg. 00110

Wilder

Canyon ID 83676

Landholding Agency: Army

Property Number: 21200740134

Status: Unutilized

Reasons:

Secured Area

Extensive deterioration

Iowa

9 Bldgs.

Iowa Army Ammo Plant

Middletown IA 52601

Landholding Agency: Army

Property Number: 21200740126

Status: Unutilized

Directions:

00176, 00204, B0205, C0205, 00206, 00207, 00208, 00209, 00210

Reasons:

Secured Area

Within 2000 ft. of flammable or explosive material

Unsuitable Properties

Building

Iowa

6 Bldgs.

Iowa Army Ammo Plant

Middletow IA 52601

Landholding Agency: Army

Property Number: 21200740127

Status: Unutilized

Directions:

00211, 00212, 00213, 00217, 00218, C0218

Reasons:

Secured Area

Within 2000 ft. of flammable or explosive material

13 Bldgs.

Iowa Army Ammo Plant

Middletown IA 52601

Landholding Agency: Army

Property Number: 21200740128

Status: Unutilized

Directions:

00287, 00288, 00289, 00290, A0290, 00291, 00292, 00293, A0293, B0293, C0293, D0293, E0293

Reasons:

Within 2000 ft. of flammable or explosive material

Secured Area

8 Bldgs.

Iowa Army Ammo Plant

Middletown IA 52601

Landholding Agency: Army

Property Number: 21200740129

Status: Unutilized

Directions:

A0294, 00295, 00296, 00316, 00326, 00328, 00330 00341

Reasons:

Within 2000 ft. of flammable or explosive material

Secured Area

Unsuitable Properties

Building

Iowa

11 Bldgs.

Iowa Army Ammo Plant

Middletown IA 52601

Landholding Agency: Army

Property Number: 21200740130

Status: Unutilized

Directions:

00949, 00962, 00963, 00964, 00965, 00967, 00968, 00969, 00970, 00971, 00972

Reasons:

Secured Area

Within 2000 ft. of flammable or explosive material

9 Bldgs.

Iowa Army Ammo Plant

Middletown IA 52601

Landholding Agency: Army

Property Number: 21200740131

Status: Unutilized

Directions:

01028, 01029, 01030, 01031, 01032, 01033, 01035, 01036, 01037

Reasons:

Secured Area

Within 2000 ft. of flammable or explosive material

7 Bldgs.

Iowa Army Ammo Plant

Middletown IA 52601

Landholding Agency: Army

Property Number: 21200740132

Status: Unutilized

Directions:

01038, B1038, C1038, D1038, E1038, 01042, 01043

Reasons:

Within 2000 ft. of flammable or explosive material

Secured Area

Unsuitable Properties

Building

Iowa

Bldgs. A1057, 01090, 05334

Iowa Army Ammo Plant

Middletown IA 52601

Landholding Agency: Army

Property Number: 21200740133

Status: Unutilized

Reasons:

Within 2000 ft. of flammable or explosive material

Secured Area

Kansas

Bldg. 00920

Fort Riley

Geary KS 66442

Landholding Agency: Army

Property Number: 21200740135

Status: Unutilized

Reasons:

Extensive deterioration

Kentucky

Bldg. 00198

Blue Grass Army Depot

Richmond KY 40475

Landholding Agency: Army

Property Number: 21200740136

Status: Unutilized

Reasons:

Extensive deterioration

Unsuitable Properties

Building

Kentucky

Bldgs. 00242, 00244, 00245

Blue Grass Army Depot

Richmond KY 40475

Landholding Agency: Army

Property Number: 21200740137

Status: Unutilized

Reasons:

Extensive deterioration

Bldgs. 00561, 01165

Blue Grass Army Depot

Richmond KY 40475

Landholding Agency: Army

Property Number: 21200740138

Status: Unutilized

Reasons:

Extensive deterioration

Bldgs. 02950, 07845

Fort Campbell

Christian KY 42223

Landholding Agency: Army

Property Number: 21200740139

Status: Unutilized

Reasons:

Extensive deterioration

Unsuitable Properties

Building

Maryland

Bldgs. 00903, 00904

Fort Detrick

Frederick MD 21702

Landholding Agency: Army

Property Number: 21200740140

Status: Unutilized

Reasons:

Secured Area

5 Bldgs.

Aberdeen Proving Ground

Harford MD 21005

Landholding Agency: Army

Property Number: 21200740141

Status: Unutilized

Directions:

00505, 01047, E1407, E1417, E1452

Reasons:

Secured Area

7 Bldgs.

Aberdeen Proving Ground

Harford MD 21005

Landholding Agency: Army

Property Number: 21200740142

Status: Unutilized

Directions:

E3007, E3221, E3222, E3223, E3224, E3226, E3228

Reasons:

Secured Area

Unsuitable Properties

Building

Maryland

Bldgs. E3236, E3268, E3850

Aberdeen Proving Ground

Harford MD 21005

Landholding Agency: Army

Property Number: 21200740143

Status: Unutilized

Reasons:

Secured Area

Bldgs. E7012, E7822

Aberdeen Proving Ground

Harford MD 21005

Landholding Agency: Army

Property Number: 21200740144

Status: Unutilized

Reasons:

Secured Area

Missouri

Bldgs. 1448, 1449

Fort Leonard Wood

Pulaski MO 65473

Landholding Agency: Army

Property Number: 21200740145

Status: Unutilized

Reasons:

Extensive deterioration

Bldgs. 2841, 2842

Fort Leonard Wood

Pulaski MO 65473

Landholding Agency: Army

Property Number: 21200740146

Status: Unutilized

Reasons:

Extensive deterioration

Unsuitable Properties

Building

Missouri

4 Bldgs.

Fort Leonard Wood 5234, 5339, 5345, 5351

Pulaski MO 65473

Landholding Agency: Army

Property Number: 21200740147

Status: Unutilized

Reasons:

Extensive deterioration

Bldgs. 5535, 5742

Fort Leonard Wood

Pulaski MO 65473

Landholding Agency: Army

Property Number: 21200740148

Status: Unutilized

Reasons:

Extensive deterioration

New Jersey

Bldg. 7427

Fort Dix

Burlington NJ 08640

Landholding Agency: Army

Property Number: 21200740149

Status: Unutilized

Reasons:

Extensive deterioration

Unsuitable Properties

Building

New York

Bldg. 00111

Fort Hamilton

Brooklyn NY 11252

Landholding Agency: Army

Property Number: 21200740150

Status: Underutilized

Reasons:

Secured Area

Bldgs. 0136A, 0136B, 0136C

Fort Hamilton

Brooklyn NY 11252

Landholding Agency: Army

Property Number: 21200740151

Status: Unutilized

Reasons:

Secured Area

Bldgs. 0138A, 0138B

Fort Hamilton

Brooklyn NY 11252

Landholding Agency: Army

Property Number: 21200740152

Status: Unutilized

Reasons:

Secured Area

4 Bldgs.

Fort Hamilton 00211, 0213, 00216, 00216A

Brooklyn NY 11252

Landholding Agency: Army

Property Number: 21200740153

Status: Unutilized

Reasons:

Secured Area

Unsuitable Properties

Building

North Carolina

5 Bldgs.

Fort Bragg

Ft. Bragg NC 28310

Landholding Agency: Army

Property Number: 21200740154

Status: Unutilized

Directions:

2847, 3226, 3228, 3232, 3236

Reasons:

Extensive deterioration

Secured Area

Within 2000 ft. of flammable or explosive material

6 Bldgs.

Fort Bragg

Ft. Bragg NC 28310

Landholding Agency: Army

Property Number: 21200740155

Status: Unutilized

Directions:

3241, 3245, 3249, 3253, 3258, 3262

Reasons:

Extensive deterioration

Secured Area

Within 2000 ft. of flammable or explosive material

8 Bldgs.

Fort Bragg

Ft. Bragg NC 28310

Landholding Agency: Army

Property Number: 21200740156

Status: Unutilized

Directions:

4143, 4147, 4152, 4156, 4160, 4164, 4169, 4774

Reasons:

Secured Area

Extensive deterioration

Within 2000 ft. of flammable or explosive material

Unsuitable Properties

Building

North Carolina

5 Bldgs.

Fort Bragg

Ft. Bragg NC 28310

Landholding Agency: Army

Property Number: 21200740157

Status: Unutilized

Directions:

5024, 5028, 5032, 5034, 5071

Reasons:

Within 2000 ft. of flammable or explosive material

Secured Area

Extensive deterioration

8 Bldgs.

Fort Bragg

Ft. Bragg NC 28310

Landholding Agency: Army

Property Number: 21200740158

Status: Unutilized

Directions:

5182, 5381, 5473, 5645, 5779, 5849, 5878, 5880

Reasons:

Extensive deterioration

Secured Area

Within 2000 ft. of flammable or explosive material

4 Bldgs.

Fort Bragg

Ft. Bragg NC 28310

Landholding Agency: Army

Property Number: 21200740159

Status: Unutilized

Directions:

6026, 6060, 6126, 6559

Reasons:

Extensive deterioration

Secured Area

Within 2000 ft. of flammable or explosive material

Unsuitable Properties

Building

Rhode Island

Bldgs. 303, 304

Naval Station

Newport RI 02841

Landholding Agency: Navy

Property Number: 77200740011

Status: Excess

Reasons:

Secured Area

Bldgs. 1121, 1931

Naval Station

Newport RI 02841

Landholding Agency: Navy

Property Number: 77200740012

Status: Excess

Reasons:

Secured Area

Tennessee

Bldgs. 101, 118, 143

Holston Army Ammo Plant

Kingsport TN 37660

Landholding Agency: Army

Property Number: 21200740160

Status: Unutilized

Reasons:

Within 2000 ft. of flammable or explosive material

Secured Area

Unsuitable Properties

Building

Texas

Bldgs. 1180, 1181

Fort Bliss

El Paso TX 79916

Landholding Agency: Army

Property Number: 21200740161

Status: Unutilized

Reasons:

Extensive deterioration

Utah

Bldg. 00007

Tooele Army Depot

Tooele UT 84074

Landholding Agency: Army

Property Number: 21200740162

Status: Unutilized

Reasons:

Extensive deterioration

5 Bldgs.

Tooele Army Depot

Tooele UT 84074

Landholding Agency: Army

Property Number: 21200740163

Status: Unutilized

Directions:

00118, 00120, 00122, 00124, 00126

Reasons:

Extensive deterioration

Unsuitable Properties

Building

Utah

5 Bldgs.

Tooele Army Depot

Tooele UT 84074

Landholding Agency: Army

Property Number: 21200740164

Status: Unutilized

Directions:

00141, 00145, 00147, 00148, 00149

Reasons:

Extensive deterioration

5 Bldgs.

Tooele Army Depot

Tooele UT 84074

Landholding Agency: Army

Property Number: 21200740165

Status: Unutilized

Directions:

00150, 00151, 00152, 00153, 00155

Reasons:

Extensive deterioration

Virginia

Bldgs. 06201, 10000, 19000

Fort Lee

Prince George VA 23801

Landholding Agency: Army

Property Number: 21200740166

Status: Unutilized

Reasons:

Extensive deterioration

Unsuitable Properties

Building

Virginia

Bldg. 01335

Fort A.P. Hill

Bowling Green VA 22427

Landholding Agency: Army

Property Number: 21200740167

Status: Unutilized

Reasons:

Extensive deterioration

4 Bldgs.

Fort Eustis 00803, 00809, 00813, 00818

Ft. Eustis VA 23604

Landholding Agency: Army

Property Number: 21200740168

Status: Unutilized

Reasons:

Extensive deterioration

5 Bldgs.

Radford Army Ammo Plant

Radford VA 24143

Landholding Agency: Army

Property Number: 21200740169

Status: Unutilized

Directions:

19980, 25710, 36020, 36370, 36380

Reasons:

Secured Area

Within 2000 ft. of flammable or explosive material

Unsuitable Properties

Building

Virginia

Radford Army Ammo Plant

Radford VA 24143

Landholding Agency: Army

Property Number: 21200740170

Status: Unutilized

Directions:

36410, 36470, 36500, 37060

Reasons:

Within 2000 ft. of flammable or explosive material

Secured Area

Bldgs. 50020, 50200

Radford Army Ammo Plant

Radford VA 24143

Landholding Agency: Army

Property Number: 21200740171

Status: Unutilized

Reasons:

Secured Area

Within 2000 ft. of flammable or explosive material

Unsuitable Properties

Building

Washington

Bldgs. 00803, 00805, 00806

Yakima Training Center

Fort Lewis

Yakima WA 98901

Landholding Agency: Army

Property Number: 21200740172

Status: Underutilized

Reasons:

Secured Area

Bldgs. 110, 116

Naval Air Station

Oak Harbor WA 98278

Landholding Agency: Navy

Property Number: 77200740013

Status: Excess

Reasons:

Secured Area

Bldg. 839

Puget Sound Naval Shipyard

Bremerton WA 98314

Landholding Agency: Navy

Property Number: 77200740014

Status: Excess

Reasons:

Secured Area

Within 2000 ft. of flammable or explosive material

Unsuitable Properties

Building

Wisconsin

Wisconsin 4 Bldgs.

Fort McCoy 01088, 01089, 01090, 01091

Monroe WI 54656

Landholding Agency: Army

Property Number: 21200740173

Status: Unutilized

Reasons:

Extensive deterioration

4 Bldgs.

Fort McCoy 05003, 05005, 05006, 05008

Monroe WI 54656

Landholding Agency: Army

Property Number: 21200740174

Status: Unutilized

Reasons:

Extensive deterioration

Bldgs. 07011, 07021, 07031

Fort McCoy

Monroe WI 54656

Landholding Agency: Army

Property Number: 21200740175

Status: Unutilized

Reasons:

Extensive deterioration

[FR Doc. E7-22686 Filed 11-21-07; 8:45 am]

BILLING CODE 4210-67-P